DEPARTMENT OF THE INTERIOR

Bureau of Indian Affairs

Indian Gaming

AGENCY: Bureau of Indian Affairs, Interior.

ACTION: Notice of Approved Tribal—State Gaming Amendment.

SUMMARY: This notice publishes an Approval of the Amendment to Interim Compact between the Chippewa Cree Tribe of the Rocky Boy's Reservation and the State of Montana regarding Class III Gaming on the Rocky Boy's Reservation.

EFFECTIVE DATE: April 3, 2008.

FOR FURTHER INFORMATION CONTACT: George T. Skibine, Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. § 2710, the Secretary of the Interior shall publish in the Federal Register notice of approved Tribal—State compacts for the purpose of engaging in Class III gaming activities on Indian lands. This Amendment increases the overall limit of allowable Class III machines and increases the maximum payout per machine. The Amendment is approved.

Dated: March 25, 2008.
Carl J. Artman,
Assistant Secretary—Indian Affairs.

[FR Doc. E8-6884 Filed 4-2-08; 8:45 am]

BILLING CODE 4310-4N-P